DEPARTMENT OF ENERGY

Notice of Availability of Guidance for the First Award Period of the Civil Nuclear Credit Program

AGENCY: Grid Deployment Office, Department of Energy.

ACTION: Notice of availability (NOA).

SUMMARY: The U.S. Department of Energy (DOE or the Department) announces the availability of the Guidance for the Civil Nuclear Credit (CNC) Program authorized under the Infrastructure Investment and Jobs Act (IIJA). The Department is issuing this NOA to provide notification of the issuance of the U.S. Department of Energy Guidance for the Civil Nuclear Credit Program covering the first award period Guidance on SAM.gov and on the CNC Program website. This Guidance describes the timelines, deliverables, and other requirements for owners or operators of nuclear reactors that are projected to cease operations due to economic factors to submit certification applications to become certified nuclear reactors, and instructions on formulating and submitting sealed bids to receive credit allocations.

DATES: DOE invites eligible nuclear reactors operating in a competitive market that project the imminent cession of operations due to economic factors, to submit certification applications and sealed bids for credits starting on April 19, 2022, at SAM.gov. The last date for which certification applications and sealed bids will be received is May 19, 2022. DOE will announce conditional awards thereafter in accordance with the Guidance.

ADDRESSES: Please see the Guidance posting at https://sam.gov/opp/09bd4b8d0afd4377aa722e4ab27d67be/view for contact information relating to certification applications and sealed bids. For information relating to the CNC Program, including a copy of the Guidance, please see https://www.energy.gov/ne/civil-nuclear-credit-program.

FOR FURTHER INFORMATION CONTACT: For more information regarding the CNC Program Guidance please contact Suzette Olsen, (208) 526-7385, olsonsm@id.doe.gov.

SUPPLEMENTARY INFORMATION:

Background

The IIJA created the CNC Program to provide up to $6 billion to award support in the form of credits to certified nuclear reactors operating in a competitive market that are projected to cease operations due to economic factors. DOE published in the Federal Register, a Notice of Intent and Request for Information regarding the establishment of a Civil Nuclear Credit Program on February 15, 2022, to solicit public input into the CNC Program design. 87 FR 8570. The Department used the responses to help inform its approach in creating the Guidance. The Guidance describes the CNC Program, program eligibility, certification criteria and bid submissions requirements for the first certification and bidding process. For the first credit auction, DOE has narrowed the field of eligible reactors to those reactors operating in a competitive market that are projected to imminently cease operations due to economic factors.

Signing Authority

This document of the Department of Energy was signed on April 20, 2022, by Patricia A. Hoffman, Acting Director, Grid Deployment Office, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on April 20, 2022.
Treena V. Garrett,
Federal Register Liaison Officer, U.S. Department of Energy.

[FR Doc. 2022-08773 Filed 4-22-22; 8:45 am]

BILLING CODE 6450-01-P